DEPARTMENT OF THE INTERIOR

National Park Service

[NPS-WASO-NAGPRA-10892; 2200-1100-665]

Notice of Inventory Completion: University of Washington, Department of Anthropology, Seattle, WA

AGENCY: National Park Service, Interior.

ACTION: Notice.

SUMMARY: The University of Washington, Department of Anthropology, has completed an inventory of human remains and associated funerary objects, in consultation with the appropriate Indian tribes, and has determined that there is no cultural affiliation between the remains and any present-day Indian tribe. Representatives of any Indian tribe that believes itself to be culturally affiliated with the human remains may contact the Burke Museum acting on behalf of the University of Washington, Department of Anthropology. Disposition of the human remains and associated funerary objects to the Indian tribes stated below may occur if no additional requestors come forward.

DATES: Representatives of any Indian tribe that believes it has a cultural affiliation with the human remains should contact the University of Washington at the address below by September 24, 2012.

ADDRESSES: Peter Lape, Burke Museum, University of Washington, Box 353010, Seattle, WA 98195, telephone (206) 685-3849.

SUPPLEMENTARY INFORMATION: Notice is here given in accordance with the Native American Graves Protection and Repatriation Act (NAGPRA), 25 U.S.C. 3003, of the completion of an inventory of human remains and associated funerary objects under the control of the University of Washington, Department of Anthropology. The human remains and associated funerary objects were removed from an unknown location in South Carolina.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the University of Washington, Department of Anthropology and the Burke Museum professional staff in consultation with representatives of Catawba Indian Nation (aka Catawba Tribe of South Carolina); Cherokee Nation, Oklahoma; Eastern Band of Cherokee Indians of North Carolina; and the United Keetoowah Band of Cherokee Indians in Oklahoma.

History and Description of the Remains

At unknown date, human remains representing, at minimum, seven individuals were removed from an unknown location in South Carolina. It is believed that they were collected by Dr. Daris Swindler prior to his appointment at the University of Washington in 1968. No known individuals were identified. The one associated funerary object is a bag containing non-human bone fragments, soil, seven shell fragments, charcoal, and unmodified stones.

Determinations Made by the University of Washington, Department of Anthropology

Officials of the University of Washington, Department of Anthropology have determined that:

• Based on the cranial morphology and documentation records, the human remains are Native American.

• Pursuant to 25 U.S.C. 3001(2), a relationship of shared group identity cannot be reasonably traced between the Native American human remains and any present-day Indian tribe.

• According to final judgments of the Indian Claims Commission, the land from which the Native American human remains and associated funerary objects were removed is the aboriginal land of the Cherokee. The Cherokee are represented by the modern day Cherokee Nation, Oklahoma; Eastern Band of Cherokee Indians of North Carolina; and the United Keetoowah Band of Cherokee Indians in Oklahoma.

• Multiple lines of evidence, including treaties, Acts of Congress, and Executive Orders, indicate that the land from which the Native American human remains and associated funerary objects were removed is also the aboriginal land of the Catawba Indian Nation (aka Catawba Tribe of South Carolina). The Catawba and the King of England entered into the Treaty of Fort Augusta in 1763. This treaty guaranteed the Catawba 144,000 acres of land in South Carolina, while ceding the remaining portion of their claim to South Carolina. Later in 1840, the Catawba attempted to sell these 144,000 acres to the State of South Carolina in the Treaty of Nation Ford. The Treaty of Nation Ford was nullified by the Federal Government stating that the State did not have authority to enter into this agreement. In 1993, the Catawba settled with the Federal Government and the State of South Carolina. Congress ratified this settlement.

• Pursuant to 25 U.S.C. 3001(9), the human remains described in this notice represent the physical remains of seven individuals of Native American ancestry.

• Pursuant to 25 U.S.C. 3001(3)(A), the object described above is reasonably believed to have been placed with or near individual human remains at the time of death or later as part of the death rite or ceremony.

• Pursuant to 43 CFR 10.11(c)(1), the disposition of the human remains is to Catawba Indian Nation (aka Catawba Tribe of South Carolina); Cherokee Nation, Oklahoma; Eastern Band of Cherokee Indians of North Carolina; and the United Keetoowah Band of Cherokee Indians in Oklahoma.

Additional Requestors and Disposition

Representatives of any Indian tribe that believes itself to be culturally affiliated with the human remains or any other Indian tribe that believes it satisfies the criteria in 43 CFR 10.11(c)(1) should contact Peter Lape, Burke Museum, University of Washington, Box 353010, Seattle, WA 98195, telephone (206) 685-3849, before September 24, 2012. Disposition of the human remains to the Catawba Indian Nation (aka Catawba Tribe of South Carolina); Cherokee Nation, Oklahoma; Eastern Band of Cherokee Indians of North Carolina; and the United Keetoowah Band of Cherokee Indians in Oklahoma may proceed after that date if no additional requestors come forward.

The University of Washington, Department of Anthropology is responsible for notifying the Catawba Indian Nation (aka Catawba Tribe of South Carolina); Cherokee Nation, Oklahoma; Eastern Band of Cherokee Indians of North Carolina; and the United Keetoowah Band of Cherokee Indians in Oklahoma that this notice has been published.

Dated: July 23, 2012.
Melanie O'Brien,
Acting Manager, National NAGPRA Program.

[FR Doc. 2012-20963 Filed 8-23-12; 8:45 am]

BILLING CODE 4312-50-P